DEPARTMENT OF HEALTH AND HUMAN SERVICES

National Institutes of Health

National Cancer Institute; Amended Notice of Meeting

Notice is hereby given of a change in the meeting of the National Cancer Institute Special Emphasis Panel, December 6, 2010, 8 a.m. to December 6, 2010, 5 p.m., Bethesda North Marriott Hotel & Conference Center, 5701 Marinelli Road, Bethesda, MD 20852 which was published in the Federal Register on October 15, 2010, 75FR63494.

This notice is amending the start and end times of the meeting from 8 a.m.-5 p.m. to 8:30 a.m.-6 p.m. The meeting is closed to the public.

Dated: October 22, 2010.
Jennifer S. Spaeth,
Director, Office of Federal Advisory Committee Policy.

[FR Doc. 2010-27328 Filed 10-28-10; 8:45 am]

BILLING CODE 4140-01-P